DEPARTMENT OF THE INTERIOR

Bureau of Land Management

[AK-930-5420-FR-L042; AA-085787]

Notice of Application for a Recordable Disclaimer of Interest for Lands Underlying the Stikine River in Alaska

AGENCY: Bureau of Land Management, Interior.

ACTION: Notice.

SUMMARY: The State of Alaska (State) has filed an application for a Recordable Disclaimer of Interest from the United States in those lands underlying the Stikine River, located in Southeast Alaska. The State asserts that the Stikine River was navigable and unreserved at the time of statehood; therefore, title to the submerged lands passed to the State at the time of statehood (1959). The lands included in the application are within the exterior boundary of the Tongass National Forest, created by Presidential Proclamation of February 16, 1909, and administered by the U.S. Forest Service in the Department of Agriculture.

DATES: Comments on the State of Alaska's application should be submitted on or before November 20, 2007. The Bureau of Land Management (BLM) has prepared a Draft Summary Report. Comments on the Draft Summary Report should be submitted on or before October 22, 2007. The State's application and the BLM Draft Summary Report will be posted on the BLM-Alaska Web site: http://www.blm.gov/ak/ak930/rdi/index.html

ADDRESSES: Comments on the State of Alaska's application or the BLM Draft Summary Report should be sent to the Chief, Branch of Survey Planning and Preparation (AK-927), Division of Cadastral Survey, BLM Alaska State Office, 222 West 7th Avenue, #13, Anchorage, Alaska 99513-7599.

FOR FURTHER INFORMATION CONTACT: Mike Brown at (907) 271-3602 or Mike_C_Brown@ak.blm.gov or visit the BLM-Alaska Web site http://www.blm.gov/ak/ak930/rdi/index.html.

SUPPLEMENTARY INFORMATION: On February 17, 2005, the State of Alaska (State) filed an application for a Recordable Disclaimer of Interest pursuant to Section 315 of the Federal Land Policy and Management Act and the regulations contained in 43 CFR Subpart 1864 for those lands underlying the Stikine River (AA-085787). A Recordable Disclaimer of Interest, if issued, will confirm the United States has no valid interest in the subject lands. The notice is intended to notify the public of the pending application and the State's grounds for supporting it. The State asserts that the Stikine River is navigable and unreserved; therefore, under the Equal Footing Doctrine and Submerged Lands Act of 1953, ownership of these lands automatically passed from the United States to the State at the time of statehood in 1959. The State did not identify any known adverse claimant or occupant of the affected lands. The applied for lands are within the exterior boundary of the Tongass National Forest, created by Presidential Proclamation of February 16, 1909, and administered by the U.S. Forest Service in the Department of Agriculture.

A final decision on the merits of the application will not be made before November 20, 2007. During the ninety (90) day notice period, interested parties may comment upon the State's application (AA-085787) and supporting evidence. Interested parties may also comment on the evidence presented in the BLM Draft Summary Report within sixty (60) days of the date of this notice. The State's application and the BLM Draft Summary Report will be posted on the BLM-Alaska Web site: http://www.blm.gov/ak/ak930/rdi/index.html.

Comments, including names and street addresses of the commenters, will be available for public review at the Alaska State Office (see address above), during regular business hours 7:30 a.m. to 4:30 p.m., Monday through Friday, except Federal holidays. Before including your address, phone number, e-mail address, or other personal identifying information in your comment, you should be aware that your entire comment—including your personal identifying information—may be made publicly available at any time. While you can ask us in your comment to withhold your personal identifying information from public review, we cannot guarantee that we will be able to do so.

Authority: 43 CFR 1864.2(a)).

Dated: June 28, 2007.
Craig Frichtl,
Chief, Branch of Survey Planning and Preparation.

[FR Doc. E7-16491 Filed 8-21-07; 8:45 am]

BILLING CODE 4310-JA-P